NATIONAL SCIENCE FOUNDATION

Sunshine Act Meetings

The National Science Board's (NSB) Committee on Oversight and Committee on Awards and Facilities hereby give notice of the scheduling of a videoconference joint meeting for the transaction of National Science Board business pursuant to the National Science Foundation Act and the Government in the Sunshine Act.

TIME AND DATE: Wednesday, September 28, 2022, from 1:30—2:30 p.m. EDT.

PLACE: This meeting will be held by videoconference through the National Science Foundation.

STATUS: Open.

MATTERS TO BE CONSIDERED: The agenda of the meeting is: Committee Chairs' opening comments; Discussion of National Science Board Responses to the issues raised in Final Report on Sexual Assault/Harassment Prevention and Response (SAHPR); Discussion of National Science Foundation Director's Statement and Immediate Actions Responding to issues raised in the SAHPR; and Committee Chairs' closing comments.

CONTACT PERSON FOR MORE INFORMATION: Point of contact for this meeting is: (Chris Blair, cblair@nsf.gov), 703/292-7000. Members of the public can observe this meeting through a You Tube livestream. Please consult the NSB website for the link.

Chris Blair,
Executive Assistant to the National Science Board Office.

[FR Doc. 2022-21012 Filed 9-23-22; 4:15 pm]

BILLING CODE 7555-01-P